DEPARTMENT OF LABOR

Employment and Training Administration

[TA-W-55,186]

BDK Machine Company, Inc., Manchester, CT; Notice of Termination of Investigation

Pursuant to Section 221 of the Trade Act of 1974, an investigation was initiated on July 1, 2004 in response to petition filed by a company official on behalf of workers at BDK Machine Company, Inc., Manchester, Connecticut.

The petitioner has requested that the petition be withdrawn. Consequently, further investigation in this case would serve no purpose, and the investigation has been terminated.

Signed in Washington, DC, this 29th day of July, 2004.
Richard Church,
Certifying Officer, Division of Trade Adjustment Assistance.

[FR Doc. 04-18340 Filed 8-10-04; 8:45 am]

BILLING CODE 4510-30-P